DEPARTMENT OF COMMERCE

National Technical Information Service

Opportunity To Enter Into a Joint Venture Partnership With the National Technical Information Service for Data Innovation Support; Extension of Deadline To Submit Proposals

AGENCY: National Technical Information Service, Department of Commerce.

ACTION: Notice; extension of deadline to submit proposals.

SUMMARY: The National Technical Information Service (NTIS) is extending the deadline for interested private-sector organizations to submit proposals to enter into a joint venture partnership with NTIS.

DATES: The deadline to submit proposals on the Notice published on August 4, 2021 (86 FR 41960) is extended. NTIS will accept proposals until August 22, 2025.

ADDRESSES: Submit proposals electronically, with the subject line “Opportunity to Enter into a Joint Venture Partnership with the National Technical Information Service for Data Innovation Support”, by emailing OpportunityAnnouncement@ntis.gov.

FOR FURTHER INFORMATION CONTACT: Rosio Harris, 703-605-6617, OpportunityAnnouncement@ntis.gov.

SUPPLEMENTARY INFORMATION: On August 4, 2021 (86 FR 41960), NTIS published in the Federal Register a Notice seeking proposals from potential Joint Venture Partners (JVPs) that can work with NTIS to assist Federal agencies to leverage innovative ways to collect, connect, access, secure, analyze, disseminate and enable effective and efficient use of data to address unique and complex national data priorities.

Using its joint venture authority, NTIS has established a unique joint venture partnership program that has resulted in a number of innovative data service projects across the Federal government that allow other Federal agencies to address national priorities more efficiently and effectively. In keeping with its mission to accelerate the collection, security, analysis, use and dissemination of data, NTIS continues to search for ways to utilize untapped resources and new capabilities in the private sector. As NTIS focuses on assessing new needs and capabilities that reflect the fast-paced developments in the current environment, it will continue to accept proposals under the criteria announced in the August 4, 2021 Notice (86 FR 41960).

Rosio Harris,
Chief of Staff, National Technical Information Service.

[FR Doc. 2024-18575 Filed 8-19-24; 8:45 am]

BILLING CODE 3510-04-P